DEPARTMENT OF ENERGY

Federal Energy Regulatory Commission

[Project No. 2614-042]

City of Hamilton, Ohio, American Municipal Power, Inc.: Notice of Reasonable Period of Time for Water Quality Certification Application

On October 23, 2024, the Ohio Environmental Protection Agency (Ohio EPA) submitted to the Federal Energy Regulatory Commission (Commission) notice that it received a complete application for a Clean Water Act section 401(a)(1) water quality certification, as defined in 40 CFR 121.5, from City of Hamilton, Ohio and American Municipal Power, Inc. in conjunction with the above captioned project on October 17, 2024. Pursuant to section 4.34(b)(5) of the Commission's regulations,¹ we hereby notify Ohio EPA of the following:

¹ 18 CFR 4.34(b)(5) (2024).

Date of Receipt of the Certification Request: October 17, 2024.

Reasonable Period of Time to Act on the Certification Request: One year (October 17, 2025).

If Ohio EPA fails or refuses to act on the water quality certification request on or before the above date, then the certifying authority is deemed waived pursuant to section 401(a)(1) of the Clean Water Act, 33 U.S.C. 1341(a)(1).

Dated: October 24, 2024.
Debbie-Anne A. Reese,
Secretary.

[FR Doc. 2024-25271 Filed 10-30-24; 8:45 am]

BILLING CODE 6717-01-P